NUCLEAR REGULATORY COMMISSION

10 CFR Part 50

[Docket No. PRM-50-77; NRC-2002-0020]

Bob Christie; Consideration of Petition in Rulemaking Process

AGENCY: Nuclear Regulatory Commission.

ACTION: Closure of petition for rulemaking docket.

SUMMARY: The Nuclear Regulatory Commission (NRC) will consider the issues raised in a petition for rulemaking (PRM) submitted by Bob Christie (petitioner) in the NRC's rulemaking process. The petition was dated May 2, 2002, and was docketed as PRM-50-77. The petitioner requested that the NRC amend its regulations at 10 CFR Part 50, Appendix A, to eliminate the requirement for assuming a loss-of-offsite power (LOOP) coincident with postulated accidents. The petitioner believes this requirement is detrimental to safety because it results in fast start time requirements for emergency diesel generators (EDG) and because it requires operator training to focus on unrealistic events.

DATES: The docket for the petition for rulemaking PRM-50-77 is closed on April 13, 2009.

ADDRESSES: You can access publicly available documents related to this petition for rulemaking using the following methods:

Federal e-Rulemaking Portal: Further NRC action on the issues raised by this petition will be considered in the rulemaking activity directed at decoupling an assumed LOOP from a coincident loss-of-coolant accident (LOCA) as currently required by 10 CFR Part 50, Appendix A, Criterion 35. This rulemaking activity is entitled, “Decoupling of Assumed Loss of Offsite Power from Loss-of-Coolant Accident,” in NUREG-0936, “NRC Regulatory Agenda: Semiannual Report,” and is designated with rulemaking identification number RIN 3150-AH43. Information on this rulemaking activity can be monitored at the Federal rulemaking portal, http://www.regulations.gov, by searching on rulemaking docket ID NRC-2008-0602. The regulatory history regarding PRM-50-77, including the public comment received, can be found by searching on docket ID NRC-2002-0020. Address questions about NRC dockets to Carol Gallagher 301-415-5905; e-mail Carol.Gallagher@nrc.gov.

NRC's Public Document Room (PDR): The public may examine and have copied for a fee, publicly available documents at the NRC's PDR, Public File Area Room O1-F21, One White Flint North, 11555 Rockville Pike, Rockville, Maryland 20852.

NRC's Agencywide Document Access and Management System (ADAMS): Publicly available documents created or received at the NRC are available electronically at the NRC's Electronic Reading Room at http://www.nrc.gov/NRC/reading-rm/adams.html. From this page, the public can gain entry into ADAMS, which provides text and image files of NRC's public documents. If you do not have access to ADAMS or if there are any problems in accessing the documents located in ADAMS, contact the NRC PDR Reference staff at 1-800-397-4209, 301-415-4737, or by e-mail at PDR.resource@nrc.gov.

FOR FURTHER INFORMATION CONTACT: Barry Miller, Mail Stop O-9E3, Office of Nuclear Reactor Regulation, United States Nuclear Regulatory Commission, Washington, DC 20555-0001; telephone (301) 415-4117, or e-mail Barry.Miller@nrc.gov.

SUPPLEMENTARY INFORMATION:

The Petition

The NRC received a petition for rulemaking (ADAMS Accession No. ML082530041) from Bob Christie (the petitioner) dated May 2, 2002, which was docketed as PRM-50-77. The petitioner requested that the NRC amend its regulations to eliminate the requirement for assuming a LOOP coincident with postulated accidents. The petitioner believes this requirement is detrimental to safety because it requires fast start times for emergency diesel generators (EDG) and because it requires operator training for unrealistic events. The petitioner proposed specific changes to several of the General Design Criteria at 10 CFR part 50, appendix A, which, if implemented, would accomplish the petition's request. These General Design Criteria include: Criterion 17—Electric power systems; Criterion 35—Emergency core cooling; Criterion 38—Containment heat removal; Criterion 41—Containment atmosphere cleanup; and Criterion 44—Cooling water.

On June 13, 2002, (67 FR 40622), the NRC published a notice of receipt for this petition in the Federal Register and requested public comment. The public comment period ended on August 27, 2002. One comment letter was received; it was in support of the petition. The comment letter can be found by following the instructions given in the ADDRESSES section of this document.

Resolution of Petition

The NRC will consider the issues raised in PRM-50-77, along with the comment submitted on PRM-50-77, in the ongoing rulemaking activity directed at decoupling an assumed LOOP from a coincident LOCA as currently required by 10 CFR part 50, appendix A, Criterion 35. The NRC believes that the underlying technical considerations regarding a postulated accident coincident with a LOOP are sufficiently related to this ongoing rulemaking activity; therefore, the issues raised in PRM-50-77 are being considered in the rulemaking activity.

The NRC is continuing work to develop the technical basis for this rulemaking. Although the NRC will consider the issues raised in the petition, the petitioner's concerns may not be addressed exactly as the petitioner has requested. After the conclusion of the NRC's development of the technical basis for the rule, the NRC will determine whether to adopt the petitioner's requested rulemaking changes. During the rulemaking process, the NRC will solicit comments from the public and will consider all comments before issuing a final rule.

If the ongoing work to establish the technical basis for this rulemaking does not support the issuance of a proposed rule, the NRC will issue a document in the Federal Register that addresses why the petitioner's requested rulemaking changes were not adopted by the NRC. With this action, the NRC closes the docket for PRM-50-77.

Dated at Rockville, Maryland, this 26th day of March 2009.
For the Nuclear Regulatory Commission.
Bruce S. Mallett,
Acting Executive Director for Operations.

[FR Doc. E9-8319 Filed 4-10-09; 8:45 am]

BILLING CODE 7590-01-P